ENVIRONMENTAL PROTECTION AGENCY

40 CFR Part 257

[FRL-7642-8]

Delaware and Maryland: Adequacy of State Solid Waste Landfill Permit Programs Under RCRA Subtitle D

AGENCY: Environmental Protection Agency (EPA).

ACTION: Immediate final rule.

SUMMARY: Under section 4005(c)(1)(C) of the Resource Conservation and Recovery Act (RCRA), EPA can approve state permit programs for solid waste disposal facilities that receive hazardous waste from conditionally exempt small quantity generators (CESQGs). A CESQG is a generator that generates less than 100 kilograms of hazardous waste per month. CESQGs are subject to minimal recordkeeping and reporting requirements under RCRA, but must satisfy three basic regulatory requirements to remain exempt from the full scope of hazardous waste regulations that apply to other generators: identification of hazardous wastes, compliance with storage quantity limits, and compliance with applicable hazardous waste treatment and disposal regulations. Federal regulations specify that CESQG hazardous waste must be disposed of in one of several ways, including either: a hazardous waste facility subject to RCRA Subtitle C, or a state licensed or permitted municipal solid waste landfill (MSWLF) subject to regulations, or a state licensed or permitted non-municipal, non-hazardous waste disposal unit subject to regulations. This action approves Maryland's regulations which require that CESQG hazardous waste must be disposed of in hazardous waste landfills, if disposed in Maryland, or in one of the three ways mentioned above, if disposed outside of Maryland. EPA is also approving Delaware's regulations which require that CESQG hazardous waste can only be disposed in hazardous waste landfills.

EPA is publishing this rule to approve applicable regulations in Delaware and Maryland without prior proposal because we believe this action is not controversial, and we do not expect comments that oppose it. Unless we receive written comments which oppose this approval during the comment period, the decision to approve the subject regulations in Delaware and Maryland will take effect as scheduled. If we receive comments that oppose this action, we will publish a document in the Federal Register withdrawing this rule before it takes effect and a separate document in the proposed rules section of this Federal Register will serve as a proposal to approve the subject regulations for Delaware and Maryland. If EPA receives relevant adverse written comment concerning the adequacy of only one of the States' programs, EPA's withdrawal of the immediate final rule will only apply to that State's program. The approval of the other State's program will take effect as scheduled in this action.

DATES: This immediate final rule will become effective on June 1, 2004, unless EPA receives relevant adverse written comment by May 3, 2004. If EPA receives such comment, it will publish a timely withdrawal of this immediate final rule in the Federal Register and inform the public that this rule, or parts of this rule, will not take effect.

ADDRESSES: Send written comments to Mr. Mike Giuranna, Mailcode 3WC21, RCRA State Programs Branch, U.S. EPA Region III, 1650 Arch Street, Philadelphia, PA 19103-2029. Comments may also be submitted electronically to: giuranna.mike@epa.gov, or by facsimile at (215) 814-3163. Comments in electronic format should identify this specific notice. Documents pertaining to this regulatory docket can be viewed and copied during regular business hours at the EPA Region III office located at the address noted above.

FOR FURTHER INFORMATION CONTACT: For information on accessing documents or supporting materials related to this rule or for information on specific aspects of this rule, contact Mike Giuranna, Mailcode 3WC21, RCRA State Programs Branch, U.S. EPA Region III, 1650 Arch Street, Philadelphia, PA 19103-2029, phone (215) 814-3298, or by e-mail at giuranna.mike@epa.gov.

SUPPLEMENTARY INFORMATION:

A. Background

Under 40 CFR 261.5, Special Requirements for Hazardous Waste Generated by Conditionally Exempt Small Quantity Generators, which was promulgated on March 24, 1986 (51 FR 10174), CESQG hazardous waste could only be disposed of in an EPA or State regulated hazardous, municipal, industrial or miscellaneous waste landfill. At that time, EPA had only promulgated rules for hazardous waste landfills and MSWLFs, not for industrial or miscellaneous waste landfills which accepted CESQG waste. On July 1, 1996 (61 FR 34252-34278), EPA promulgated criteria under its solid waste program at 40 CFR part 257, subpart B, for industrial waste and other non-municipal, non-hazardous waste landfills which accept CESQG hazardous waste. In the same notice, EPA also revised its hazardous waste program regulations at 40 CFR 261.5(f)(3) and 261.5(g)(3) to allow the disposal of CESQG hazardous waste in non-municipal, non-hazardous waste landfills which meet the requirements of 40 CFR part 257, subpart B, as well as in hazardous waste landfills or MSWLFs which meet appropriate Federal regulations. Today's immediate final rule approves provisions in Delaware's regulations which prevent CESQG waste from being disposed of in any type of landfill other than a hazardous waste landfill and Maryland's regulations which only permit the disposal of CESQG waste in Maryland in hazardous waste landfills, and, in other States, also in MSWLFs which meet appropriate Federal regulations and non-hazardous, non-municipal landfills which comply with 40 CFR part 257, subpart B.

The States of Delaware and Maryland have “EPA-authorized” hazardous waste permit programs under RCRA Subtitle C (40 CFR parts 271, 124, 264 and 270). These States have regulations in place providing that CESQG hazardous waste may be lawfully managed in a RCRA Subtitle C hazardous waste facility. With the exception of State-approved hazardous waste collection activities, Delaware prohibits the disposal of CESQG waste at any type of landfill other than a permitted hazardous waste facility. Maryland only permits the disposal of CESQG waste in hazardous waste landfills (HWLFs) if disposed of in Maryland, and HWLFs, municipal solid waste landfills or non-municipal, non-hazardous waste disposal units which comply with the requirements of 40 CFR part 257, subpart B if the CESQG waste is disposed outside of Maryland. These programs in Delaware and Maryland satisfy the EPA requirements for the safe management of CESQG wastes. Therefore, pursuant to 40 CFR part 257, subpart B, EPA has determined that Delaware's and Maryland's regulations are adequate for EPA approval because they prohibit the disposal of CESQG wastes in landfills that do not meet relevant Federal requirements.

B. Decision

After reviewing the relevant regulations for the States of Delaware (listed in Delaware's Regulations for Hazardous Waste at § 261.5(f)(3)(i)-(iii) and 261.5(g)(3)(i)-(iii)), and Maryland (Title 26, Subtitle 13, Chapter 2 of the Code of Maryland Regulations at 26.13.02.05 D(2)), and finding that they are equivalent to or more stringent than the Federal regulations at 40 CFR 261.5(f)(3) and (g)(3), EPA is granting Delaware and Maryland a final determination of adequacy for their regulations pursuant to RCRA section 4005(c)(1)(C).

C. Statutory and Executive Order Reviews

This rule only approves State solid waste requirements pursuant to RCRA section 4005 and imposes no requirements other than those imposed by State law (see SUPPLEMENTARY INFORMATION, above). Therefore, this rule complies with applicable executive orders and statutory provisions as follows. 1. Executive Order 12866: Regulatory Planning Review—The Office of Management and Budget has exempted this rule from its review under Executive Order 12866. 2. Paperwork Reduction Act—This rule does not impose an information collection burden under the Paperwork Reduction Act. 3. Regulatory Flexibility Act—After considering the economic impacts of today's rule on small entities under the Regulatory Flexibility Act, I certify that this rule will not have a significant economic impact on a substantial number of small entities. 4. Unfunded Mandates Reform Act—Because this rule approves pre-existing requirements under state law and does not impose any additional enforceable duty beyond that required by state law, it does not contain any unfunded mandate or significantly or uniquely affect small governments, as described in the Unfunded Mandates Act. 5. Executive Order 13132: Federalism—Executive Order 13132 does not apply to this rule because it will not have federalism implications (i.e., substantial direct effects on the States, on the relationship between the national government and the States, or on the distribution of power and responsibilities among the various levels of government). 6. Executive Order 13175: Consultation and Coordination with Indian Tribal Governments—Executive Order 13175 does not apply to this rule because it will not have tribal implications (i.e., substantial direct effects on one or more Indian tribes, on the relationship between the Federal Government and Indian tribes, or on the distribution of power and responsibilities between the Federal Government and Indian tribes). 7. Executive Order 13045: Protection of Children from Environmental Health & Safety Risks—This rule is not subject to Executive Order 13045 because it is not economically significant and it is not based on health or safety risks. 8. Executive Order 13211: Actions that Significantly Affect Energy Supply, Distribution, or Use—This rule is not subject to Executive Order 13211 because it is not a significant regulatory action as defined in Executive Order 12866. 9. National Technology Transfer Advancement Act—EPA approves State programs as long as they meet criteria required by RCRA, so it would be inconsistent with applicable law for EPA, in its review of a State program, to require the use of any particular voluntary consensus standard in place of another standard that meets the requirements of RCRA. Thus, section 12(d) of the National Technology Transfer and Advancement Act does not apply to this rule. 10. Congressional Review Act—EPA will submit a report containing this rule and other information required by the Congressional Review Act (5 U.S.C. 801 et seq.) to the U.S. Senate, the U.S. House of Representatives, and the Comptroller General of the United States prior to publication in the Federal Register. This action is not a “major rule” as defined by 5 U.S.C. 804(2). This action will be effective June 1, 2004.

List of Subjects in 40 CFR Part 257

Environmental protection, Waste treatment and disposal.

Authority: This document is issued under the authority of sections 2002 and 4005 of the Solid Waste Disposal Act as amended, 42 U.S.C. 6912 and 6945.

Dated: January 8, 2004.
Donald S. Welsh,
Regional Administrator, Region III.

[FR Doc. 04-7468 Filed 4-1-04; 8:45 am]

BILLING CODE 6560-50-P